DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 21, 2010.

Address Comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for special permit is published in accordance with Part 107 of the Federal hazardous materials transportation law (49 U.S.C. 5117(b); 49 CFR 1.53(b)).

Issued in Washington, DC, on December 14, 2009.
Delmer F. Billings,
Director, Office of Hazardous Materials Special Permits and Approvals.

Application No. | Docket No. | Applicant | Regulation(s) affected | Nature of special permits thereof
New Special Permits
14945-N |  | Vulcan Construction Materials LP SE d/b/a Vulcan Materials Company, Atlanta, GA | 49 CFR 172.200, 173.300, 172.400, 172.500 | To authorize the transportation in commerce of certain Class 3 PG III and Class 9 hazardous materials across a public road within the Macon Quarry without shipping papers, marking, labeling, or placarding. (mode 1).
14946-N |  | FAR Research, Inc. (dba FAR Chemicals, Inc.), Palm Bay, FL | 49 CFR 173.206 | To authorize the transportation in commerce of Trimethylchloro-silane, UN1298 in a DOT Specification 4BW cylinder for all modes of transportation except air. (modes 1, 2, 3).
14947-N |  | Hennepin County Department of Environmental Services, Minneapolis, MN | 49 CFR 172.102(c) Special provision 130 | To authorize the transportation in commerce of certain used batteries for recycling without protection against short circuits. (mode 1).
14948-N |  | The Boeing Company, St. Louis, MO | 49 CFR 171.8 and 178.5 14(b)(2) | To authorize the transportation in commerce of missile sustainer sections containing a flammable liquid in non-DOT specification packaging by motor vehicle and cargo vessel. (modes 1, 3).
14949-N |  | Air Products and Chemicals, Inc., Allentown, PA | 49 CFR 173.301(f) 171.23(a)(5) | To authorize the transportation in and commerce of 40 Multiple-element gas containers (MEGCs) in DOT specification cylinders that are not equipped with pressure relief devices by motor vehicle. (mode 1).
14950-N |  | Certified Cylinder, Division of American Welding & Tank, LLC, Crossville, TN | 49 CFR 180.211 | To authorize the rebuilding or modification and sale of certain DOT Specification 4B, 4BA, and 4BW cylinders for use in the transportation in commerce of certain hazardous materials. (mode 1).

[FR Doc. E9-30305 Filed 12-21-09; 8:45 am]

BILLING CODE 4909-60-M